DEPARTMENT OF JUSTICE

[AAG/A Order No. 011-2003]

Privacy Act of 1974; System of Records

Pursuant to the Privacy Act of 1974 (5 U.S.C. 552a), notice is hereby given that the Civil Division, Department of Justice, is establishing a new system of records entitled “Annuity Brokers List System” Civil Division (CIV), JUSTICE/CIV-005.

The Annuity Brokers List System is established to support the production and maintenance of a list of annuity brokers as required by the “21st Century Department of Justice Appropriations Authorization Act”. Section 11015(a) of the statute provides “Not later than 6 months after the date of enactment of this Act, the Attorney General shall establish a list of annuity brokers who meet minimum qualifications for providing annuity brokerage services in connection with structured settlements entered by the United States. This list shall be updated upon request by any annuity broker that meets the minimum qualifications for inclusion on the list. The Attorney General shall transmit such list, and any updates to such list, to all United States Attorneys.” This notice is published in accordance with that statutory requirement.

The Department is providing a report to OMB and the Congress.

Dated: April 2, 2003.
Paul R. Corts,
Assistant Attorney General for Administration.

JUSTICE/CIV-005

SYSTEM NAME:

Annuity Brokers List System.

SECURITY CLASSIFICATION:

None.

SYSTEM LOCATION:

Civil Division, U.S. Department of Justice, 950 Pennsylvania Avenue, NW., Washington, DC 20530; Department of Justice—Records Management Unit, 2711 Prosperity Avenue, Fairfax, VA 22031; and Federal Records Center, Suitland, MD 20409.

CATEGORIES OF INDIVIDUALS COVERED BY THE SYSTEM:

Individuals who are seeking to be included in the list of annuity brokers mandated by section 11015 of the “21st Century Department of Justice Appropriations Authorization Act.”

CATEGORIES OF RECORDS IN THE SYSTEM:

Records in this system include: declarations filed by annuity brokers and associated correspondence.

AUTHORITY FOR MAINTENANCE OF THE SYSTEM:

Public Law 107-273, 21st Century Department of Justice Appropriations Authorization Act, Section 11015(a).

PURPOSE:

These records are collected and maintained for the purpose of establishing a list of annuity brokers who meet minimum qualifications for providing annuity brokerage services in connection with structured settlements entered by the United States.

ROUTINE USES OF RECORDS MAINTAINED IN THE SYSTEM, INCLUDING CATEGORIES OF USERS AND THE PURPOSE OF SUCH USES:

None.

DISCLOSURE TO CONSUMER REPORTING AGENCIES:

None.

POLICIES AND PRACTICES FOR STORING, RETRIEVING, ACCESSING, RETAINING AND DISPOSING OF RECORDS IN THE SYSTEM: STORAGE:

Paper records are maintained in filing cabinets. Automated data, including records that have been transformed into electronic form, are stored on computer discs or magnetic tapes, which are also stored in cabinets.

RETRIEVABILITY:

Files and automated data are retrieved by name of an individual.

SAFEGUARDS:

Files and automated data are maintained under supervision of Civil Division personnel or their contractors. During working hours—only authorized personnel, with the appropriate authority may handle, retrieve, or disclose any information contained therein. Access to electronic records is controlled by password or other user identification code.

RETENTION AND DISPOSAL:

A request for authority to maintain and dispose of annuity broker list records has been submitted to the National Archives and Records Administration and is pending. In the interim, all records received will be retained and no records will be destroyed.

SYSTEM MANAGER(S) AND ADDRESS:

Office of the Assistant Attorney General, Civil Division, 950 Pennsylvania Avenue, NW., Washington, DC 20530.

NOTIFICATION PROCEDURES:

Address inquiries to: Office of the Assistant Attorney General, Civil Division, 950 Pennsylvania Avenue, NW., Washington, DC 20530.

RECORD ACCESS PROCEDURES:

Individuals seeking access to information about their records may write to the Office of the Assistant Attorney General, Civil Division, 950 Pennsylvania Avenue, NW., Washington, DC 20530. The request should state what records are sought and must include the requester's full name and current address. The request must be signed before a notary or signed, dated and submitted under penalty of perjury.

CONTESTING RECORD PROCEDURES:

Individuals desiring to contest or amend information maintained in the system should direct their request to the Office of the Assistant Attorney General, Civil Division, 950 Pennsylvania Avenue, NW., Washington, DC 20530. The request should clearly and concisely state what information is being contested, the reason(s) for contesting it, and the proposed amendment to the record.

RECORD SOURCE CATEGORIES:

Individuals submitting information who are seeking to be included in the Department of Justice list of annuity brokers.

SYSTEMS EXEMPTED FROM CERTAIN PROVISIONS OF THE ACT:

None.

[FR Doc. 03-8641 Filed 4-8-03; 8:45 am]

BILLING CODE 4410-12-P